DEPARTMENT OF DEFENSE

Department of the Army; Corps of Engineers

Intent To Prepare an Environmental Impact Statement for the Proposed Lower Passaic River Ecosystem Restoration Project, Essex, Hudson, Passaic, and Bergen Counties, NJ: Feasibility Phase

AGENCY: Department of the Army, U.S. Army Corps of Engineers, DoD.

ACTION: Notice of intent.

SUMMARY: In compliance with the National Environmental Policy Act (NEPA), the New York District of the U.S. Army Corps of Engineers (Corps) is preparing an Environmental Impact Statement (EIS) in accordance with Council on Environmental Quality regulations as defined and amended in 40 CFR parts 1500-1508 (promulgated pursuant to NEPA); Corps' principles and guidelines as defined in Engineering Regulations (ER) 1105-2-100, Planning Guidance Notebook, and ER 200-2-2, Procedures for Implementing NEPA; and other applicable Federal and State environmental laws for the proposed ecosystem restoration project in the Lower Passaic River Basin located in the counties of Essex, Hudson, Passaic, and Bergen in New Jersey.

The study area is identified as the Lower Passaic River and its basin, which comprises the tidally influenced portion of the river from the Dundee Dam to Newark Bay and the watershed of this portion of the river; the study area does not include the watershed and river upstream of the dam. Extensive habitat loss and degradation have greatly reduced the functional and structural integrity of ecosystems within the Lower Passaic River Basin. Both the U.S. Environmental Protection Agency and the Corps will develop a comprehensive watershed-based plan for both the remediation and restoration of the Lower Passaic River Watershed. This will include the identification of remediation actions and ecosystem restoration opportunities in the study area to support broader estuary-wide restoration efforts. Remediation actions may include sediment removal, cap placement, in-situ or ex-situ sediment decontamination, and shoreline stabilization, while complimentary restoration goals may include the restoration, creation, and enhancement of benthic habitat, aquatic habitat, tidal and non-tidal wetlands, riparian habitat, flood plains and other terrestrial habitats as well as shoreline stabilization. The Corps intends to prepare an EIS for the ecosystem restoration portion of this joint study.

ADDRESSES: U.S. Army Corps of Engineers, New York District, 26 Federal Plaza, New York, NY 10278-0090.

FOR FURTHER INFORMATION CONTACT: Mr. Bill Shadel, Project Biologist and NEPA Coordinator, Planning Division, Environmental Analysis Branch; (212) 264-0570; or William.P.Shadel@usace.army.mil.

SUPPLEMENTARY INFORMATION: 1. The Lower Passaic River Ecosystem Restoration Study, the Water Resources Development Act component of this joint study, is being carried out under the Corps' General Investigations Program. The study was authorized under the Hudson-Raritan study authorization, in a resolution of the Committee on Transportation and Infrastructure of the U.S. House of Representatives, dated 15 April 1999, which reads:

Resolved by the Committee on Transportation and Infrastructure of the United States House of Representatives, That, the Secretary of the Army is requested to review the reports of the Chief of Engineers on the New York and New Jersey channels, published as House Document 133, 74th Congress, 1st Session; the New York and New Jersey Habor Entrance Channels and Anchorage Areas, published as Senate Document 45, 84th Congress, 1st Session; and the New York Harbor, NY Anchorage channel, published as House Document 18, 71st Congress, 2nd Session, as well as other related reports with a view to determining the feasibility of environmental restoration and protection relating to water resources and sediment quality within the New York and New Jersey Port District, including but not limited to creation, enhancement, and restoration of aquatic, wetland, and adjacent upland habitats.

A public scoping meeting is scheduled for spring 2005. Results from the public scoping meeting with Federal, State, and local agencies, as well as the public, will be addressed in the EIS.

3. Federal agencies interested in participating as a Cooperating Agency are requested to submit a letter of intent to Colonel Richard J. Polo, Jr., District Engineer (see ADDRESSES).

4. It is estimated that a draft EIS will be completed by March 2007, subject to availability of funds.

Leonard Houston,
Chief, Environmental Analysis Branch, Planning Division.

[FR Doc. 04-28332 Filed 12-27-04; 8:45 am]

BILLING CODE 3710-06-M